DEPARTMENT OF TRANSPORTATION

Federal Aviation Administration

14 CFR Part 39

[Docket No. FAA-2017-0668; Product Identifier 2017-NE-17-AD]

RIN 2120-AA64

Airworthiness Directives; General Electric Company Turbofan Engines

Correction

In Proposed Rule document 2017-19250 appearing on pages 42752-42754 in the issue of Wednesday, September 12, 2017, make the following correction:

On page 42752, in the second column, the document heading should appear as set forth above.

[FR Doc. C1-2017-19250 Filed 9-20-17; 8:45 am]

BILLING CODE 1301-00-D